DEPARTMENT OF DEFENSE

GENERAL SERVICES ADMINISTRATION

NATIONAL AERONAUTICS AND SPACE ADMINISTRATION

[OMB Control No. 9000-0032; Docket 2012-0076; Sequence 66]

Federal Acquisition Regulation; Submission for OMB Review; Contractor Use of Interagency Fleet Management System Vehicles

AGENCY: Department of Defense (DOD), General Services Administration (GSA), and National Aeronautics and Space Administration (NASA).

ACTION: Notice of request for public comments regarding an extension to an existing OMB clearance.

SUMMARY: Under the provisions of the Paperwork Reduction Act, the Regulatory Secretariat will be submitting to the Office of Management and Budget (OMB) a request to review and approve an extension of a previously approved information collection requirement concerning contractor use of interagency fleet management system vehicles. A notice was published in the Federal Register at 78 FR 23935, on April 23, 2013. No comments were received.

DATES: Submit comments on or before November 29, 2013.

ADDRESSES: Submit comments identified by Information Collection 9000-0032, Contractor Use of Interagency Fleet Management System Vehicles, by any of the following methods:

• Regulations.gov: http://www.regulations.gov.

Submit comments via the Federal eRulemaking portal by searching the OMB control number. Select the link “Submit a Comment” that corresponds with “Information Collection 9000-0032, Contractor Use of Interagency Fleet Management System Vehicles”. Follow the instructions provided at the “Submit a Comment” screen. Please include your name, company name (if any), and “Information Collection 9000-0032, Contractor Use of Interagency Fleet Management System Vehicles” on your attached document.

• Fax: 202-501-4067.

• Mail: General Services Administration, Regulatory Secretariat (MVCB), 1800 F Street NW., 2nd Floor, Washington, DC 20405-0001. ATTN: Hada Flowers/IC 9000-0032, Contractor Use of Interagency Fleet Management System Vehicles.

Instructions: Please submit comments only and cite Information Collection 9000-0032, Contractor Use of Interagency Fleet Management System Vehicles, in all correspondence related to this collection. Submit comments regarding this burden estimate and any other aspect of this collection of information, including suggestions for reducing this burden to: FAR Desk Officer, OMB, Room 10102, NEOB, Washington, DC 20503. All comments received will be posted without change to http://www.regulations.gov, including any personal and/or business confidential information provided.

FOR FURTHER INFORMATION CONTACT: Mr. Curtis E. Glover, Sr., Procurement Analyst, Office of Governmentwide Acquisition Policy, GSA (202) 501-1448 or email at Curtis.glover@gsa.gov.

SUPPLEMENTARY INFORMATION:

A. Purpose

If it is in the best interest of the Government, the contracting officer may authorize cost-reimbursement contractors to obtain, for official purposes only, interagency fleet management system (IFMS) vehicles and related services. Federal Acquisition Regulation (FAR) 51.205 and the clause at FAR 52.251-2, Interagency Fleet Management System (IFMS) Vehicles and Related Services are to be used in solicitations and contracts when a cost reimbursement contract is contemplated and the contracting officer may authorize the contractor to use interagency fleet management system (IFMS) vehicles and related services.

Before a contracting officer may authorize cost-reimbursement contractors to obtain IFMS vehicles and related services, the contracting officer must have, among other requirements:

• A written statement that the contractor will assume, without the right of reimbursement from the Government, the cost or expense of any use of the IFMS vehicles and services not related to the performance of the contract;

• Evidence that the contractor has obtained motor vehicle liability insurance covering bodily injury and property damage, with limits of liability as required or approved by the agency, protecting the contractor and the Government against third-party claims arising from the ownership, maintenance, or use of an IFMS vehicle; and

• Considered any recommendations of the contractor. The information is used by the Government to determine whether it is in the Government's best interest to authorize a cost-reimbursement contractor, for official purposes only, to use IFMS vehicles and related services.

Authorized contractors shall submit requests for IFMS vehicles and related services in writing to the appropriate GSA point of contact in accordance with the FAR. Contractors' requests for vehicles or related services must include:

• Two copies of the agency authorization;

• The number of vehicles and related services required and period of use;

• A list of employees who are authorized to request the vehicles or related services;

• A listing of equipment authorized to be serviced; and

• Billing instructions and address.

Public comments are particularly invited on: Whether this collection of information is necessary for the proper performance of functions of the Federal Acquisition Regulations (FAR), and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

B. Annual Reporting Burden

There is no centralized database in the Federal Government that captures information on agencies' use of the IFMS for this information collection; however, agencies annually report motor vehicle fleet data using the GSA Federal Automotive Statistical Tool (FAST), a web-based reporting tool cosponsored by GSA and the Department of Energy.

For this information collection requirement data from Fiscal Year (FY) 2012 was retrieved from the Federal Procurement Data System (FPDS) to determine the number of agencies that awarded cost reimbursable contracts that may utilize IFMS to provide vehicles to contractors for official purposes only. FPDS identified approximately 120 contracting agencies that awarded cost reimbursable contracts in FY 2012. Of these agencies, it is estimated that approximately fifty percent, or 60, contracting agencies may utilize IFMS to provide vehicles to contractors for official purposes only. It is further estimated that each of the 60 agencies would average approximately 3 contractor requests per year to utilize the IFMS, for a total estimate of approximately 180 contactor requests per year. The requests should be limited because certain travel costs are allowable under cost-reimbursement contracts, including the costs of contractor-owned or -leased automobiles. FAR 31.205-46(d) provides that these costs are allowable, if reasonable, to the extent that the automobiles are used for company business. Consequently, the FY 2012 FPDS data will serve as the basis for the number of respondents per year. One burden hour was estimated per response to read and prepare information. This represents an increase from what was published in the Federal Register on March 5, 2010 (75 FR 10267). No public comments were received in prior years that have challenged the validity of the Government's estimate.

Estimated respondents/yr: 180.

Number of responses annually: 1.0.

Total annual responses: 180.

Estimated hrs/response: 1.0.

Estimated total burden/hrs: 180.

Obtaining Copies of Proposals: Requesters may obtain a copy of the information collection documents from the General Services Administration, Regulatory Secretariat (MVCB), 1800 F Street, NW., 2nd Floor, Washington, DC 20405-0001, telephone (202) 501-4755. Please cite OMB Control No. 9000-0032, Contractor Use of Interagency Fleet Management System Vehicles, in all correspondence.

Dated: October 22, 2013.
Karlos Morgan,
Acting Director, Federal Acquisition Policy Division, Office of Governmentwide Acquisition Policy, Office of Acquisition Policy, Office of Governmentwide Policy.

[FR Doc. 2013-25213 Filed 10-28-13; 8:45 am]

BILLING CODE 6820-EP-P